DEPARTMENT OF LABOR

Employment and Training Administration

[TA-W-73,158; TA-W-73,158A]

Siemens Medical Solutions USA, Inc., Oncology Care Systems Division, Concord, CA; Siemens Medical Solutions USA, Inc., Global Services/Supply Chain Management Including Employees Working Off-Site Throughout the United States Reporting to Malvern, PA, Amended Certification Regarding Eligibility To Apply for Worker Adjustment Assistance

In accordance with Section 223 of the Trade Act of 1974, as amended (“Act”), 19 U.S.C. 2273, the Department of Labor (Department) issued a Certification of Eligibility to Apply for Worker Adjustment Assistance on March 11, 2010, applicable to workers and former workers of Siemens Medical Solutions USA, Inc. (Siemens), Oncology Care Systems Division, Concord, California (subject firm). The Department's Notice of determination was published in the Federal Register on April 23, 2010 (75 FR 21355). The Department's Notice was amended on July 29, 2011 to include the Malvern, Pennsylvania location in support of the subject firm. The amended notice was published in the Federal Register on August 12, 2011 (76 FR 50269). The workers are engaged in employment related to the supply of administrative services.

At the request of workers, the Department reviewed the certification for workers of the subject firm.

New information provided by company revealed that worker separations have occurred involving off-site area office employees located throughout the United States who report to the Malvern, Pennsylvania location of Siemens Medical Solutions USA, Inc., Global Services/Supply Chain Management. These employees provided support for the supply of information technology services (such as help desk, application development and support, and data center operations) for the Malvern, Pennsylvania location of the subject firm.

Based on these findings, the Department is amending the certification to include employees of the subject firm who report to Malvern, Pennsylvania facility working at off-site locations throughout the United States.

The intent of the Department's certification is to include all workers of the subject firm who were adversely affected by a shift in services to Germany.

The amended notice applicable to TA-W-73,158 is hereby issued as follows:

“All workers of Siemens Medical Solutions USA, Inc., Oncology Care Systems Division, Concord, California (TA-W-73,158) and Siemens Medical Solutions USA, Inc., Global Services/Supply Chain Management, including employees working at off-site locations throughout the United States, reporting to Malvern, Pennsylvania (TA-W-73,158A), who became totally or partially separated from employment on or after December 22, 2008, through March 11, 2012, and all workers in the groups threatened with total or partial separation from employment on March 11, 2010 through two years from the date of certification, are eligible to apply for adjustment assistance under Chapter 2 of Title II of the Trade Act of 1974, as amended.”

Signed in Washington, DC, this 14th day of September 2011.
Del Min Amy Chen,
Certifying Officer, Office of Trade Adjustment Assistance.

[FR Doc. 2011-24468 Filed 9-22-11; 8:45 am]

BILLING CODE 4510-FN-P